FEDERAL MEDIATION AND CONCILIATION SERVICE

Privacy Act of 1974; System of Records

AGENCY: Federal Mediation and Conciliation Service.

ACTION: Notice of a new system of records.

SUMMARY: Federal Mediation and Conciliation Service (FMCS) uses this system to process and administer practical, experience-based conflict resolution training for individuals and groups in the federal, public, and private sectors. FMCS uses this system to register participants, provide accreditation information, and promote training and learning opportunities.

DATES: This system of records will be effective without further notice on August 8, 2022 unless otherwise revised pursuant to comments received. New routine uses will be effective on August 8, 2022. Comments must be received on or before August 8, 2022.

ADDRESSES: You may send comments, identified by FMCS-00010, by any of the following methods:

• Mail: FMCS Institute, 250 E Street SW, Washington, DC 20427.

• Email: register@fmcs.gov. Include FMCS-00010 on the subject line of the message.

FOR FURTHER INFORMATION CONTACT: Office of FMCS Institute, Heather Brown, Chief Learning Officer, call (202) 606-3627 or email hbrown@fmcs.gov.

SUPPLEMENTARY INFORMATION: In connection with FMCS's mission, FMCS created the FMCS Institute to provide training courses concerning conflict resolution, arbitration, and mediation to the federal, public, and private sector employees. FMCS uses this system to store information pertaining to registration, instructors, enrollment, courses, and schedules. This system is comprised of several components including Event Espresso, emails, internal FMCS drives, and internal FMCS databases. Payments for courses are made via pay.gov. In connection with this system, FMCS also receives applications for arbitration course instructors every two years.

SYSTEM NAME AND NUMBER:

FMCS-00010 FMCS Institute Records.

SYSTEM LOCATION:

Federal Mediation and Conciliation Service, Office of FMCS Institute, 250 E Street SW, Washington, DC 20427.

SYSTEM MANAGER(S):

Chief Learning Officer, Heather Brown, 250 E Street SW, Washington, DC 20427, email hbrown@fmcs.gov or call (202) 606-5462. Event Espresso (Computer Technology Consultants), send mail to 10411 Motor City Drive, Suite 325, Bethesda, MD 20817, or call (240) 547-0076.

AUTHORITY FOR MAINTENANCE OF THE SYSTEM:

29 U.S.C § 172, et seq., and 29 CFR part 1403.

PURPOSE(S) OF THE SYSTEM:

The purpose of the system is for collecting, processing, and maintaining participants' basic contact registration information to provide training and education services. The registration information is required to provide training, accreditation information, and to help determine locations for agency resources. The system assists in processing the online registration of participants for the training activities.

CATEGORIES OF INDIVIDUALS COVERED BY THE SYSTEM:

Individuals in this system include members of the public, federal, public, and private sector employees who register for training, and federal employees who provide and support FMCS training services and course instructors.

CATEGORIES OF RECORDS IN THE SYSTEM:

The categories of records maintained in the system include the list of training programs, course descriptions, instructor applicant information, rosters, course evaluations, and registration details. The registrant information collected includes: first name, last name, email address, title, office, organization, address, room #/mail code, city, state/province, zip/postal code, telephone and fax number, and country.

RECORD SOURCE CATEGORIES:

Information is provided by registrants through the online database registration program. Course instructors and applicants to be course instructors also provide information about education, background, and experience.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FMCS as a routine use pursuant to 5 U.S.C. 552a(b)(3) as follows:

(a) To disclose pertinent information to the appropriate Federal, State, or local agency responsible for investigating, prosecuting, enforcing, or implementing a statute, rule regulation or order where the record, either alone or in conjunction with other information creates an indication of a violation or potential violation of civil or criminal laws or regulations.

(b) To the Government Accountability Office (GAO) for oversight purposes; to the Department of Justice (DOJ) to obtain that department's advice regarding disclosure obligations under the Freedom of Information Act (FOIA); or to the Office of Management and Budget (OMB) to obtain that office's advice regarding obligations under the Privacy Act.

(c) To disclose information to the National Archives and Records Administration (NARA) or the General Services Administration in records management inspections conducted under authority of 44 U.S.C. 2904 and 2906.

(d) To a former employee of the Agency for purposes of responding to an official inquiry by a federal, state, or local government entity or professional licensing authority, in accordance with applicable Agency regulations; or facilitating communications with a former employee that may be necessary for personnel-related or other official purposes where the Agency requires information and/or consultation assistance from the former employee regarding a matter within that person's former area of responsibility.

(e) To disclose information to contractors, grantees, experts, consultants, detailees, and other non-Government employees performing or working on a contract, service, or other assignment for the Federal Government when necessary to accompany an agency function related to this system of records.

(f) To officials of labor organizations recognized under 5 U.S.C. Chapter 71 upon receipt of a formal request and in accordance with the conditions of 5 U.S.C. 7114 when relevant and necessary to their duties of exclusive representation concerning personnel policies, practices, and matters affecting working conditions.

(g) To disclose information to a Member of Congress or a congressional office in response to an inquiry made on behalf of, and at the request of, an individual who is the subject of the record.

(h) To the Department of Justice, including Offices of the U.S. Attorneys; another Federal agency conducting litigation or in proceedings before any court, adjudicative, or administrative body; another party in litigation before a court, adjudicative, or administrative body; or to a court, adjudicative, or administrative body. Such disclosure is permitted only when it is relevant and necessary to the litigation or proceeding, and one of the following is a party to the litigation or has an interest in such litigation:

(1) FMCS, or any component thereof.

(2) Any employee or former employee of FMCS in their official capacity.

(3) Any employee or former employee of FMCS in their capacity where the Department of Justice or FMCS has agreed to represent the employee.

(4) The United States, a Federal agency, or another party in litigation before a court, adjudicative, or administrative body, upon the FMCS General Counsel's approval, pursuant to 5 CFR part 295 or otherwise.

(i) To any federal agency, organization, or person for the purposes of performing audit or oversight operations related to the operation of this system of records as authorized by law, but only information necessary and relevant to such audit or oversight function.

(j) To facilitate the agency's response to a suspected or confirmed breach of its own records and to disclose information to appropriate agencies, entities, and persons when: (1) FMCS suspects or has confirmed that there has been a breach of the system of records; (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(k) To disclose information to another Federal agency or Federal entity, when FMCS determines that information from this systems of records may reasonably be needed by another agency in responding to a suspected or confirmed breach in (1) responding to a suspected or confirmed breach or (2) preventing, minimizing, or remedying the risk of harm to individuals, the recipient agency or entity (including its information systems, programs, and operations), the Federal Government, or national security, resulting from a suspected or confirmed breach.

(l) To disclose to professional affiliations, licensing entities, and employers to verify attendance and course completion.

(m) To disclose, in a limited capacity, to a vendor or third party to provide requested accommodations associated with attendance, participation, registration, or instructor applicant information.

POLICIES AND PRACTICES FOR STORAGE OF RECORDS:

These records are maintained in hard copy and electronic form in locations only accessible to authorized personnel. Electronic records are stored on the agency's internal servers with restricted access to authorized Human Resources staff and designated deciding officials as determined by agency officials. Hard copy records are stored in a lock cabinet accessible to authorized Human resource staff and designated deciding officials as determined by agency policy.

POLICIES AND PRACTICES FOR RETRIEVAL OF RECORDS:

The records are retrieved by the name or other programming identifier assigned to an individual in the electronic database.

POLICIES AND PRACTICES FOR RETENTION OF DISPOSAL OF RECORDS:

All records are retained and disposed of in accordance with General Records Schedule 6.5, issued by the National Archives and Records Administration.

ADMINSTRATIVE, TECHNICAL, AND PHYSICAL SAFEGUARDS:

The Administrative, technical, and physical security controls required for the system are defined in National Institute of Standards and Technology (NIST) Special Publication (SP)800-53 Rev 5, “Security and Privacy Controls for Federal Information Systems and Organizations”. These controls strengthen the information systems and the environment in which it operates.

The physical security safeguard is 24 hours on-site professional security staff who monitor access points. The use of equipment such as, hand scanners or video monitoring of activity, are kept in protected areas. Management ensures that only authorized parties are allowed physical access. The FMCS buildings are guarded and monitored by security personnel, cameras, ID checks, and other physical security measures.

Records are in a locked file storage area or stored electronically in locations only accessible to authorize personnel requiring agency security credentials. Access is restricted, and accessible to limited Human Resources and/or individuals in a need-to-know capacity. The Technical controls used on the system include a protected network developed by a trusted third-party contractor and only accessible to system administrators. The system is protected using a two-factor authentication log in system access.

RECORD ACCESS PROCEDURES:

Individuals must provide the following information for their records to be located and identified: (1) Full name, (2) Address, and (3) A reasonably identifying description of the record content requested. Requests can be submitted via fmcs.gov/foia/, via email to privacy@fmcs.gov, or via mail to FMCS, Privacy Office, 250 E Street SW, Washington, DC 20427. See 29 CFR 1410.3, Individual Access Requests. Certificates of course completion may be requested via email to fmcs_institute@fmcs.gov.

CONTESTING RECORDS PROCEDURES:

See 29 CFR 1410.6, Requests for correction or amendment of records, on how to contest the content of any records. Privacy Act requests to amend or correct records may be submitted to the Privacy Office at privacy@fmcs.gov or send mail to FMCS, Privacy Office, 250 E Street SW, Washington, DC 20427. Also, see https://www.fmcs.gov/privacy-policy/.

NOTIFICATION PROCEDURES:

See 29 CFR 1410.3(a), Individual access requests.

EXEMPTIONS PROMULGATED FOR THE SYSTEM:

None.

HISTORY:

None

Dated: July 5, 2022.
Anna Davis,
Deputy General Counsel.

[FR Doc. 2022-14598 Filed 7-7-22; 8:45 am]

BILLING CODE 6732-01-P